DEPARTMENT OF THE INTERIOR

Bureau of Land Management

[LLNM920000 20X L13100000.PP0000]

Notice of Proposed Reinstatement of Terminated Oil and Gas Lease NMNM 137444, New Mexico

AGENCY: Bureau of Land Management, Interior.

ACTION: Notice.

SUMMARY: In accordance with the Mineral Leasing Act of 1920 as amended, Colgate Production LLC., timely filed a petition for reinstatement of competitive oil and gas lease NMNM 137444 in Eddy County, New Mexico. The lessee paid the required rentals accruing from the date of termination. No lease was issued that affect these lands. The Bureau of Land Management proposes to reinstate the lease.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee agrees to new lease terms for rentals and royalties of $10 per acre, or fraction thereof, per year, and 16⅔ percent, respectively. The lessee agrees to additional or amended stipulations. The lessee paid the $500 administration fee for the reinstatement of the lease and $151 cost for publishing this Notice.

The lessee met the requirements for reinstatement of the lease per Sec. 31(d) and (e) of the Mineral Leasing Act of 1920. The BLM is proposing to reinstate the lease, effective the date of termination subject to the:

• Original terms and conditions of the lease;

• Additional and amended stipulations;

• Increased rental of $10 per acre;

• Increased royalty of 16⅔ percent; and

• $151 cost of publishing this Notice.

Authority: 43 CFR 3108.2-3.

Julieann Serrano,
Supervisory Land Law Examiner.

[FR Doc. 2020-17315 Filed 8-6-20; 8:45 am]

BILLING CODE 4310-FB-P